DEPARTMENT OF HOMELAND SECURITY

U.S. Customs and Border Protection

[1651-0105]

Agency Information Collection Activities: Application To Use the Automated Commercial Environment (ACE)

AGENCY: U.S. Customs and Border Protection, Department of Homeland Security.

ACTION: 30-Day notice and request for comments; revision of an existing collection of information.

SUMMARY: U.S. Customs and Border Protection (CBP) of the Department of Homeland Security will be submitting the following information collection request to the Office of Management and Budget (OMB) for review and approval in accordance with the Paperwork Reduction Act: Application to Use the Automated Commercial Environment (ACE). CBP is proposing that this information collection be extended with a change to the burden hours resulting from the addition of a new application for exporters to establish an ACE Portal account. There are no proposed changes to the existing ACE Portal application for imported merchandise. This document is published to obtain comments from the public and affected agencies.

DATES: Written comments should be received on or before March 20, 2015 to be assured of consideration.

ADDRESSES: Interested persons are invited to submit written comments on this proposed information collection to the Office of Information and Regulatory Affairs, Office of Management and Budget. Comments should be addressed to the OMB Desk Officer for Customs and Border Protection, Department of Homeland Security, and sent via electronic mail to oira_submission@omb.eop.gov or faxed to (202) 395-5806.

FOR FURTHER INFORMATION CONTACT: Requests for additional information should be directed to Tracey Denning, U.S. Customs and Border Protection, Regulations and Rulings, Office of International Trade, 90 K Street NE., 10th Floor, Washington, DC 20229-1177, at 202-325-0265.

SUPPLEMENTARY INFORMATION: This proposed information collection was previously published in the Federal Register (79 FR 73098) on December 9, 2014, allowing for a 60-day comment period. This notice allows for an additional 30 days for public comments. This process is conducted in accordance with 5 CFR 1320.10. CBP invites the general public and other Federal agencies to comment on proposed and/or continuing information collections pursuant to the Paperwork Reduction Act of 1995 (Pub. L. 104-13; 44 U.S.C. 3507). The comments should address: (a) Whether the collection of information is necessary for the proper performance of the functions of the agency, including whether the information shall have practical utility; (b) the accuracy of the agency's estimates of the burden of the collection of information; (c) ways to enhance the quality, utility, and clarity of the information to be collected; (d) ways to minimize the burden, including the use of automated collection techniques or the use of other forms of information technology; and (e) the annual costs to respondents or record keepers from the collection of information (total capital/startup costs and operations and maintenance costs). The comments that are submitted will be summarized and included in the CBP request for OMB approval. All comments will become a matter of public record. In this document, CBP is soliciting comments concerning the following information collection:

Title: Application to Use the Automated Commercial Environment (ACE).

OMB Number: 1651-0105.

Abstract: The Automated Commercial Environment (ACE) is a trade processing system that will eventually replace the Automated Commercial System (ACS), the current import system for U.S. Customs and Border Protection (CBP) operations. ACE is authorized by Executive Order 13659 which mandates implementation of a Single Window for trade. See 79 FR 10655 (February 25, 2014). ACE supports government agencies and the trade community with border-related missions with respect to moving goods across the border efficiently and securely. Once ACE is fully implemented, all related CBP trade functions and the trade community will be supported from a single common user interface.

Currently, ACE is used for imported merchandise by brokers, carriers, sureties, service providers, facility operators, foreign trade zone operators, cart men and lighter men. In order to establish an ACE Portal account, participants submit information such as their name, their employer identification number (EIN) or social security number, and if applicable, a statement certifying their capability to connect to the internet. This information is submitted through the ACE Secure Data Portal which is accessible at: http://www.cbp.gov/trade/automated.

CBP is proposing to add export functionality to the system which will allow participation from the exporter community. Trade members wishing to establish an exporter account will need to submit the following data elements:

1. Company Information

a. EIN

b. DUNS (optional)

c. Company Name

d. Company Address

e. End of Fiscal Year

2. ACE Export Account Owner Information

a. Name

b. Date of Birth

c. Telephone Number

d. Fax Number (optional)

e. Email

f. Account Owner address if different from Company Address

3. Filing Notification Point of Contact

a. Name

b. Phone Number

c. Email

Current Actions: CBP is proposing that this information collection be extended with a change to the burden hours resulting from the addition of a new application for exporters to establish an ACE Portal account. There are no proposed changes to the existing ACE Portal application for imported merchandise.

Type of Review: Extension (with change).

Affected Public: Businesses.

Application to ACE (Import)

Estimated Number of Respondents: 21,000.

Estimated Number of Total Annual Responses: 21,000.

Estimated Time per Response: .33 hours.

Estimated Total Annual Burden Hours: 6,930.

Application to ACE (Export)

Estimated Number of Respondents: 9,000.

Estimated Number of Total Annual Responses: 9,000.

Estimated Time per Response: .066 hours.

Estimated Total Annual Burden Hours: 594.

Dated: February 12, 2015.
Tracey Denning,
Agency Clearance Officer, U.S. Customs and Border Protection.

[FR Doc. 2015-03375 Filed 2-17-15; 8:45 am]

BILLING CODE 9111-14-P